DEPARTMENT OF STATE

[Public Notice: 7692]

30-Day Notice of Proposed Information Collection: DS-4131 Advance Notification Form: Tourist and Other Non-Governmental Activities in the Antarctic Treaty Area, 1405-0181

ACTION: Notice of request for public comment and submission to OMB of proposed collection of information.

SUMMARY: The Department of State has submitted the following information collection request to the Office of Management and Budget (OMB) for approval in accordance with the Paperwork Reduction Act of 1995.

• Title of Information Collection: Advance Notification Form: Tourist and Other Non-Governmental Activities in the Antarctic Treaty Area.

• OMB Control Number: 1405-0181.

• Type of Request: Extension of a Currently Approved Collection.

• Originating Office: Bureau of Oceans and International Environmental and Scientific Affairs, Office of Ocean and Polar Affairs (OES/OPA).

• Form Number: DS-4131.

• Respondents: Operators of Antarctic expeditions organized in or proceeding from the United States.

• Estimated Number of Respondents: 22.

• Estimated Number of Responses: 22.

• Average Hours per Response: 10.5.

• Total Estimated Burden: 231.

• Frequency: On occasion.

• Obligation to Respond: Voluntary.

DATES: Submit comments to the Office of Management and Budget (OMB) for up to 30 days from November 21, 2011.

ADDRESSES: Direct comments to the Department of State Desk Officer in the Office of Information and Regulatory Affairs at the Office of Management and Budget (OMB). You may submit comments by the following methods:

• Email: oira_submission@omb.eop.gov. You must include the DS form number, information collection title, and OMB control number in the subject line of your message.

• Fax: (202) 395-5806. Attention: Desk Officer for Department of State.

FOR FURTHER INFORMATION CONTACT: You may obtain copies of the proposed information collection and supporting documents from Susannah E. Cooper, Office of Ocean and Polar Affairs, Room 2665, Bureau of Oceans and International Environmental and Scientific Affairs, U.S. Department of State, 2201 C Street NW., Washington, DC 20520, who may be reached at (202) 647-0237 or cooperse@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of Proposed Collection

Information solicited on the Advance Notification Form (DS-4131) provides the U.S. Government with information on tourist and other non-governmental expeditions to the Antarctic Treaty area. The U.S. Government needs this information to comply with Article VII(5)(a) of the Antarctic Treaty and comport with Antarctic Treaty Consultative Meeting Recommendation XVIII-1 and Resolution XIX-3.

Methodology

Information will be submitted in signed original by U.S. organizers of tourist and other non-governmental expeditions to Antarctica. Advance copies are submitted by email.

Dated: September 29, 2011.
Evan T. Bloom,
Director, Office of Ocean and Polar Affairs, Bureau of Oceans and International Environmental and Scientific Affairs, U.S. Department of State.

[FR Doc. 2011-30018 Filed 11-18-11; 8:45 am]

BILLING CODE 4710-09-P